DEPARTMENT OF THE INTERIOR

Minerals Management Service (MMS)

Outer Continental Shelf (OCS) Policy Committee; Notice and Agenda for Meeting

AGENCY: Minerals Management Service, Interior.

ACTION: Notice of meeting.

SUMMARY: The OCS Policy Committee will meet at the Holiday Inn Capitol in Washington, DC.

DATES: Wednesday, October 20, 2004, from 8:30 a.m. to 5 p.m. and Thursday, October 21, 2004, from 8:30 a.m. to 12 p.m.

ADDRESSES: The Holiday Inn Capitol Hotel, 550 C Street, SW., Washington, DC 20024, telephone (202) 479-4000.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal states, local government, environmental community, industry, and other parties involved with the OCS Program. It provides policy advice to the Secretary of the Interior through the Director of the MMS on all aspects of leasing, exploration, development, and protection of OCS resources.

The agenda for Wednesday, October 20 will cover the following principal subjects:

Overview of Global Oil and Gas Situation

This presentation will address the latest trends on oil and markets both nationally and internationally with an emphasis on how it relates to DOI's role.

OCS and MMS Role in the Domestic Energy Picture

This presentation will address MMS's mission and business practices in managing mineral resource development on the OCS.

MMS Regional Issues

The Regional Directors will highlight activities off the California and Alaska coasts and the Gulf of Mexico.

Future Planning

This presentation will address the 5-Year OCS Oil and Gas Leasing Program 2007-2012 and ways to prepare for future decision or direction of the Program.

Multiple Use of Existing Infrastructure

This presentation will address conversion of OCS oil and gas infrastructure for other uses, proposed OCS legislation and MMS's commitment to the challenge.

The agenda for Thursday, October 21 will cover the following principal subjects:

Committee Business

The new Committee will establish operating procedures and elect officers.

U.S. Commission on Ocean Policy

This presentation will highlight the Commission's final report and its recommendations for a national ocean policy.

The meeting is open to the public. Approximately 100 visitors can be accommodated on a first-come-first-served basis.

Upon request, interested parties may make oral or written presentations to the OCS Policy Committee. Such requests should be made no later than October 13, 2004, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, P.L. No. 92-463, 5 U.S.C. Appendix 1, and the Office of Management and Budget's Circular No. A-63, Revised.

Dated: September 24, 2004.
Thomas A. Readinger,
Associate Director for Offshore Minerals Management.

[FR Doc. 04-21843 Filed 9-28-04; 8:45 am]

BILLING CODE 4310-MR-P